DEPARTMENT OF DEFENSE

Department of the Army

[Docket ID: USA-2025-HQ-0069]

Privacy Act of 1974; System of Records

AGENCY: Department of the Army, Department of Defense (DoD).

ACTION: Notice of a modified system of records.

SUMMARY: In accordance with the Privacy Act of 1974 (as amended), the Department of the Army is modifying and reissuing a current system of records titled, “Army Family Advocacy Program Files,” A0608-18 DASG. The system of records name is changing from “Army Family Advocacy Program Files” to “Army Family Advocacy Program Records.” This system of records was originally established to maintain records that identify, monitor, track and provide treatment to alleged offenders, eligible victims and their families of substantiated spouse/child abuse, and neglect. The system is being updated to expand coverage to intimate partners of service members and the intimate partner's children as it pertains to allegations of domestic abuse and child abuse/neglect. Additionally, Army is updating the routine use section to add the DoD standard routine uses (routine uses A through J). The Army is also modifying various other sections within the system of records notice (SORN) to improve clarity or update information that has changed.

DATES: This system of records is effective upon publication; however, comments on the Routine Uses will be accepted on or before August 27, 2025. The Routine Uses are effective at the close of the comment period, unless comments have been received from interested members of the public that require modification and republication of the notice.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Joyce Luton, Department of the Army, Records Management Directorate, Attention: Army Privacy and Civil Liberties Office, 9301 Chapek Road (Building 1458), Fort Belvoir, VA 22060-5527 or by calling (571) 515-0213.

SUPPLEMENTARY INFORMATION:

I. Background

The Army Family Advocacy Program (FAP) is a program mandated by Congress to address issues related to child abuse and neglect, domestic abuse, and problematic sexual behavior in children and youth. The Army FAP uses a web-based application to create an electronic platform for managing various aspects of incident response, including child and adult abuse incident determination, case management for offenders and victims, background checks for childcare providers, and data collection for reporting to Congress. The application also hosts and utilizes the Army Central Registry (ACR), which is a DoD-mandated registry of abuse incidents, to provide data to authorized agencies within DoD, as well as Federal, State, and local law enforcement agencies and child protection services. The ACR consults with other Service abuse registries and furnishes on-demand responses to queries from Congress and the Executive branch.

Subject to public comment, the DoD is updating the routine use section to add the standard DoD routine uses (routine uses A through J). Additionally, the system of records is being renamed from “Army Family Advocacy Program Files” to “Army Family Advocacy Program Records.” The following sections of this SORN are also being modified: (1) to the Authority for Maintenance of the System section to update citation(s) and add additional authorities; (2) to the Categories of Individuals Covered by the System section to expand the individuals covered and Categories of Records to clarify how the records relate to the revised Category of Individuals; (3) to the Administrative, Technical, and Physical Safeguards to update the individual safeguards protecting the personal information; (4) to the Retention and Disposal section to reflect the approved disposition; (5) to the Record Access Procedures section to reflect the need for individuals to identify the appropriate DoD office or component to which their request should be directed; (6) to the Notification and Contesting Records Procedures section to update the appropriate citation for contesting records; and (7) to the System Manager and System Location sections to update the addresses and office names. Furthermore, this notice includes non-substantive changes to simplify the formatting and text of the previously published notice.

DoD SORNs have been published in the Federal Register and are available from the address in FOR FURTHER INFORMATION CONTACT or at the Office of the Assistant to the Secretary of Defense for Privacy, Civil Liberties, and Transparency (OATSD(PCLT)) website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: July 23, 2025.
Aaron T. Siegel,
Alternate OSD Federal Register Liaison Officer, Department of Defense.

SYSTEM NAME AND NUMBER:

Army Family Advocacy Program Records, A0608-18 DASG.

SECURITY CLASSIFICATION:

Unclassified.

SYSTEM LOCATION:

Department of Defense (Department or DoD), located at 1000 Defense Pentagon, Washington, DC 20301-1000, and other Department installations, offices, or mission locations. Information may also be stored within a government-certified cloud, implemented and overseen by the Department's Chief Information Officer (CIO), 6000 Defense Pentagon, Washington, DC 20301-6000.

SYSTEM MANAGER:

The system manager is Commander, U.S. Army Medical Command, ATTN: MCHO-CL-H(ACR), 2450 Connell Road, Fort Sam Houston, TX 78234-6010.

AUTHORITY FOR MAINTENANCE OF THE SYSTEM:

10 U.S.C. 7013, Secretary of the Army; 18 U.S.C. 1512: Tampering With A Witness, Victim, or An Informant; 18 U.S.C. 1513: Retaliating Against A Witness, Victim, or An Informant; 18 U.S.C. 1514: Civil Action to Restrain Harassment of A Victim or Witness; DoD Instruction (DoDI) 1030.02, Victim and Witness Assistance; DoDI 6025.18, Health Insurance Portability and Accountability Act (HIPPA) Privacy Rule Compliance in DoD Health Care Programs; DoDI 6400.01, Family Advocacy Program; DoDI 6400.06, DoD Coordinated Community Response to Domestic Abuse Involving DoD Military and Certain Affiliated Personnel; DoDI 6400.07, Standards for Victim Assistance Services in the Military Community; DoD Manual (DoDM) 6400.01 V2, Family Advocacy Program (FAP): Child Abuse and Domestic Abuse Incident Reporting System; Army Regulation (AR) 608-18, The Army Family Advocacy Program; and E.O. 9397 (SSN), as amended.

PURPOSE(S) OF THE SYSTEM:

A. To maintain records that identify, monitor, track and provide treatment to alleged offenders, eligible victims and their families of substantiated spouse/intimate partner/child abuse, and neglect. To manage prevention programs to reduce the incidence of abuse throughout the Army military communities.

B. To support necessary litigation, use civilian resources for counseling and treating individuals or families involved in cases, and provide referrals as appropriate to law enforcement authorities for the purpose of investigating a suspected case of abuse.

C. To facilitate collaboration and coordination among law enforcement, medical professionals, community resources, civilian authorities, and child protection agencies, unit commanders and preventive services.

D. To enable coordination and collaboration in the implementation of preventive measures and community education regarding child abuse and neglect, as well as spouse/intimate partner abuse, and to provide a platform for victim advocacy management and case management for New Parent Support services within family services.

F. To perform research studies and compile statistical data.

CATEGORIES OF INDIVIDUALS COVERED BY THE SYSTEM:

Eligible military members and their family, intimate partners of military members, children of intimate partners, and DoD civilians who participate in the Army Family Advocacy Program.

CATEGORIES OF RECORDS IN THE SYSTEM:

A. Personal information to include name, social security number (SSN), DoD ID number, date of birth, race, sex, ethnicity, employment and home address, marital and family status, employment and education information, supervisor, and unit contacts, personal and employment work contacts, past legal, dental, and medical care history to include behavioral health history, childhood history, spiritual, cultural and religious information, and all information related to allegations of domestic and family maltreatment. These reporting requirements include SSN's when identifying sponsors, victims and alleged perpetrators of child and domestic violence.

B. Other records include Family Advocacy Incident Determination Committee (IDC) records of established cases of child/spouse/intimate partner abuse or neglect to include those occurring in Army sanctioned or operated activities. Files may contain extracts of law enforcement investigative reports, child welfare reports, medical evaluations, victim reporting preference statements, impact statements, photographic documentation of incidents and injuries, correspondence, IDC reports, IDC determinations, Command actions, risk assessments, biopsychosocial assessments, treatment plans and documentation of treatment, follow-up and evaluative reports, supportive data relevant to individual family advocacy incident files, summary statistical data reports and similar relevant files.

Note: This system of records may contain individually identifiable health information. DoDI 6025.18, Health Insurance Portability and Accountability Act (HIPAA) Privacy Rule Compliance in DoD Health Care Programs may place additional procedural requirements on the uses and disclosures of such information beyond those found in the Privacy Act of 1974 or mentioned in this system of records notice.

RECORD SOURCE CATEGORIES:

Records and information stored in this system of records are obtained from the individual, educational institutions, medical institutions, police and investigating officers, state and local government agencies, witnesses, and records and reports prepared on behalf of the Army by boards, committees, panels, auditors, etc. Information may also derive from interviews, personal history statements, and observations of behavior by professional persons (i.e., social workers, physicians, including psychiatrists and pediatricians, psychologists, nurses, and lawyers).

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act of 1978, as amended.

J. To such recipients and under such circumstances and procedures as are mandated by Federal statute or treaty.

K. To departments and agencies of the Executive Branch of government in performance of their official duties relating to coordination of family advocacy programs, medical care, and research concerning child abuse and neglect, and spouse/intimate partner abuse.

L. To Federal, State, or local governmental agencies when it is deemed appropriate to use civilian resources in counseling and treating individuals or families involved in child abuse or neglect or spouse abuse; or when appropriate or necessary to refer a case to civilian authorities for civil or criminal law enforcement; or when a state, county, or municipal child protective service agency inquirers about a prior record of substantiated abuse for the purpose of investigating a suspected case of abuse.

M. To the National Academy of Sciences, private organizations, and individuals for health research in the interest of the Federal government and the public and authorized surveying bodies for professional certification and accreditation such as Joint Commission on the Accreditation of Health Care Organizations.

N. To victims and witnesses of a crime for purposes of providing information consistent with the requirements of the Victim and Witness Assistance Program, regarding the investigation and disposition of an offense.

POLICIES AND PRACTICES FOR STORAGE OF RECORDS:

Records may be stored electronically or on paper in secure facilities in a locked drawer behind a locked door. Electronic records may be stored locally on digital media; in agency-owned cloud environments; or in vendor Cloud Service Offerings certified under the Federal Risk and Authorization Management Program (FedRAMP).

POLICIES AND PRACTICES FOR RETRIEVAL OF RECORDS:

Records may be retrieved by name, SSN or DoD ID number.

POLICIES AND PRACTICES FOR RETENTION AND DISPOSAL OF RECORDS:

Electronic records are kept indefinitely in archived or active status. Paper records that are allowed for destruction are shredded.

ADMINISTRATIVE, TECHNICAL, AND PHYSICAL SAFEGUARDS:

The Army reviewed the safeguards established for the system to ensure they are compliant with DoD requirements. Due to the nature of the information collected, the impact and potential effect on an individual's privacy, if compromised, is high. The following administrative, technical and physical administrative controls are applied to restrict access to those who require the data in the performance of their official duties: records are maintained in controlled areas accessible only to authorized personnel; access to personal information is further restricted by the use of Common Access Cards and user ID/passwords; and paper records are maintained in a controlled facility where physical entry is restricted by the use of locks, a card access control system, staffed reception areas and cameras inside and outside which monitor all doors. Other controls in place include user identification and passwords, an Intrusion Detection System, encryption, firewalls, Virtual Private Networks and Public Key Infrastructure Certificates. Additional controls in place include periodic security audits, ensuring only authorized personnel have access to personally identifiable information, encryption of backups containing sensitive data, and securing backups off-site.

RECORD ACCESS PROCEDURES:

Individuals seeking access to their records should address written inquiries to the commander of the medical center or hospital where treatment was received, attention Patient Administration Division Office; or to the Commander, U.S. Army Medical Command, ATTN: MCHO-CL-H(ACR), Fort Sam Houston, TX 78234-6010; or the FOIA Requester Service Center, Office of Freedom of Information, Army Records Management Directorate or email: usarmy.belvoir.hqda-esa.mbx.rmda-foia@army.mil. For verification purposes, the individual should provide the full name, SSN of the patient's sponsor, and current address, date and location of treatment, and any details that will assist in locating the record, and signature. Signed written requests should contain the name and number of this system of records notice along with full name, current address, and email address of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

DoD has exempted records maintained in this system from 5 U.S.C. 552a(c)(3); (d)(1), (2), (3) and (4); (e)(1); (e)(4)(G), (H) and (I); and (f) of the Privacy Act, pursuant to 5 U.S.C. 552a(k)(2), and (k)(5), as applicable. An exemption rule for this system has been promulgated in accordance with the requirements of 5 U.S.C. 553(b)(1), (2), and (3), (c), and (e) and published in 32 CFR part 310. In addition, when exempt records received from other systems of records become part of this system, DoD also claims the same exemptions for those records that are claimed for the prior system(s) of records of which they were a part, and claims any additional exemptions set forth here.

HISTORY:

August 29, 2003; 68 FR 52009.

[FR Doc. 2025-14120 Filed 7-25-25; 8:45 am]

BILLING CODE 6001-FR-P